DEPARTMENT OF LABOR

Employment and Training Administration

Agency Information Collection Activities; Comment Request; Characteristics of the Insured Unemployed

ACTION: Notice.

SUMMARY: The Department of Labor's (DOL) Employment and Training Administration (ETA) is soliciting comments concerning a proposed extension for the authority to conduct the information collection request (ICR) titled, “Characteristics of the Insured Unemployed.” This comment request is part of continuing Departmental efforts to reduce paperwork and respondent burden in accordance with the Paperwork Reduction Act of 1995 (PRA).

DATES: Consideration will be given to all written comments received by July 8, 2024.

ADDRESSES: A copy of this ICR with applicable supporting documentation, including a description of the likely respondents, proposed frequency of response, and estimated total burden, may be obtained free by contacting Rachel Beistel by telephone at 202-693-2736 (this is not a toll-free number) or by email at beistel.rachel@dol.gov. For persons with a hearing or speech disability who need assistance to use the telephone system, please dial 711 to access telecommunications relay services.

Submit written comments about, or requests for a copy of, this ICR by mail or courier to the U.S. Department of Labor, Employment and Training Administration, Office of Unemployment Insurance Room S-4519, 200 Constitution Ave NW, Washington, DC 20210; by email: beistel.rachel@dol.gov; or by fax 202-693-3975.

FOR FURTHER INFORMATION CONTACT: Rachel Beistel by telephone at 202-693-2736 (this is not a toll-free number) or by email at beistel.rachel@dol.gov.

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

Section 303(a)(6) of the Social Security Act specifies that for State UI programs to be certified to receive administrative funding from the Federal government, the State's law must include provisions for “making of such reports . . . as the Secretary of Labor may from time to time require, and compliance with such provisions as the Secretary may from time to time find necessary to assure the correctness and verification of such reports.” DOL considers the proposed changes and updates to the ETA 203 report to be one of those “provisions . . . necessary to assure the correctness and verification” of the reports submitted by states. ETA is proposing changes to the ETA 203 to update and expand terms and definitions in the race and ethnicity categories to adhere to updated guidance/changes set out in the Office of Management and Budget's (OMB) Revisions to its Statistical Policy Directive No. 15: Standards for Maintaining, Collecting, and Presenting Federal Data on Race and Ethnicity, ¹ which became effective on March 29, 2024. Also, adding “Another Gender Identity/Non-binary/X” as a response option will make the data collection consistent with the U.S. State Department's passport guidelines. These changes will capture characteristics that better reflect society and the UI population across demographic groups. For example, race and ethnicity will be combined into one question and reporting category to decrease confusion by respondents; a separate race and/or ethnicity category will be added (“Middle Eastern or North African”); and “other” will be removed from “Native Hawaiian or Pacific Islander.” In addition to collecting age, industry, and occupation information, the revised ETA 203 report would also collect information on a claimant's primary language, self-identified disability status, level of educational attainment, and base period wages. ETA proposes adding these categories to increase understanding of interactions between socio-economic characteristics and unemployment insurance receipt, and to inform state UI programs managers about possible needs in areas such as translation services. These categories and the specific terms proposed were identified after examining data studied, collected, or used by the U.S. Department of State, the U.S. Census Bureau, and Bureau of Labor Statistics. An individual's refusal to disclose claimant demographic information will not impact eligibility determinations. Also, any responses collected and information provided will be treated as confidential. This data will not be shared beyond aggregate reporting to ETA and any demographic information associated with a specific claimant or employer will be masked or hidden from state agency staff. Furthermore, disclosure of demographic information is voluntary and a non-response to questions will continue to be reported as “Information Not Available” or INA.

¹ https://www.govinfo.gov/content/pkg/FR-2024-03-29/pdf/2024-06469.pdf.

The Government Performance and Results Act of 1993 (GPRA) requires Federal agencies to develop annual and strategic performance plans that establish performance goals, have concrete indicators of the extent that goals are achieved, and set performance targets. Each year, the agency is to issue a report that “evaluate[s] the performance plan for the current fiscal year relative to the performance achieved toward the performance goals in the fiscal year covered by the report.” DOL emphasizes the importance of complete and accurate information for program monitoring and improving program performance “ . . . as a framework for agencies to communicate progress in achieving their missions.” (OMB Circular A-11, Section 15.5). The Social Security Act, Section 303(a)(6), authorizes this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention OMB control number 1205-0009.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, (e.g., permitting electronic submission of responses).

Agency: DOL-ETA.

Type of Review: Revision.

Title of Collection: Characteristics of the Insured Unemployed.

Form: ETA 203.

OMB Control Number: 1205-0009.

Affected Public: State Workforce Agencies.

Estimated Number of Respondents: 53.

Frequency: Monthly.

Total Estimated Annual Responses: 636.

Estimated Average Time per Response: 40 minutes.

Estimated Total Annual Burden Hours: 424 hours.

Total Estimated Annual Other Cost Burden: $0.

Authority: 44 U.S.C. 3506(c)(2)(A).

José Javier Rodríguez,
Assistant Secretary for Employment and Training, Labor.

[FR Doc. 2024-10071 Filed 5-8-24; 8:45 am]

BILLING CODE 4510-FW-P